FEDERAL COMMUNICATIONS COMMISSION

47 CFR Parts 0, 4 and 63

[ET Docket No. 04-35; FCC 04-188]

Disruptions to Communications

AGENCY: Federal Communications Commission.

ACTION: Final rule; announcement of effective date.

SUMMARY: The Federal Communications Commission announces the effective date for Part 4, Disruptions to Communications, and the amendments to § 63.100, Notification of service outage, which also contain information collection requirements subject to approval by OMB. Furthermore, the Federal Communications Commission has received approval from the Office of Management and Budget (OMB) for the new and/or revised information collection requirements contained in the information collection 3060-0484, “New Part 4 of the Commission's Rules Concerning Disruptions to Communications.”

DATES: Part 4 and the amendments to § 63.100, published at 69 FR 70316 (December 3, 2004), and the information collection requirements contained therein are effective January 3, 2005.

FOR FURTHER INFORMATION CONTACT: Charles Iseman at (202) 418-2444, charles.iseman@fcc.gov, Office of Engineering and Technology, TTY (202) 418-2989.

SUPPLEMENTARY INFORMATION: The FCC published a document in the Federal Register of December 3, 2004 (69 FR 70316) that set forth an effective date of January 3, 2005, except for part 4 and the amendments to § 63.100, which contain information collection requirements that had not been approved by the Office of Management and Budget. The document stated that the Commission will publish a document in the Federal Register announcing the effective date for part 4 and the amendments to § 63.100, and the information collection requirements contained therein. On December 21, 2004, OMB approved the information collection requirements for 3060-0484, “Part 4 of the Commission's Rules Concerning Disruptions to Communications.” Therefore, by this Notice, the Commission announces that the effective date for part 4 and the amendments to § 63.100, and the information collection requirements contained therein (3060-0484), will be January 3, 2005. The expiration date for the information collection requirements will be December 31, 2007.

Under OMB's terms of clearance, OMB's approval of the information collection is based on the Commission's Order Granting Partial Stay, FCC 04-291, adopted December 20, 2004 and released December 22, 2004. That Order grants an immediate partial stay of the provisions of paragraph 134 of the Report and Order (summarized as 69 FR 70316, December 3, 2004) insofar as it requires the reporting as outages of DS3 simplex events that are not corrected within five days of their discovery. At this time, the duration of the partial stay is unknown and the Commission continues discussions with both homeland security officials and impacted industry representatives. The Commission has committed to seek public comment on this matter.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning this information collection, 3060-0484, should be directed to Leslie F. Smith, Federal Communications Commission, (202) 418-0217 or via the Internet at Leslie.Smith@fcc.gov.

Federal Communications Commission.
Marlene H. Dortch,
Secretary.

[FR Doc. 04-28504 Filed 12-29-04; 8:45 am]

BILLING CODE 6712-01-P